DEPARTMENT OF HOMELAND SECURITY

Coast Guard

[Docket No. USCG-2011-0255]

Notification of the Imposition of Conditions of Entry for Certain Vessels Arriving to the United States From the Union of the Comoros and the Republic of Cote d'Ivoire

AGENCY: Coast Guard, DHS.

ACTION: Notice.

SUMMARY: The Coast Guard announces that it will impose conditions of entry on vessels arriving from the countries of the Union of the Comoros and the Republic of Cote d'Ivoire.

DATES: The policy announced in this notice will become effective June 10, 2011.

ADDRESSES: This notice is part of docket USCG-2011-0255 and is available online by going to http://www.regulations.gov, inserting USCG-2011-0255 in the “Keyword” box, and then clicking “Search.” The material is also available for inspection and copying at the Docket Management Facility at the U.S. Department of Transportation, Room W12-140 on the Ground Floor of the West Building, 1200 New Jersey Avenue, SE., Washington, DC 20590, between 9 a.m. and 5 p.m., Monday through Friday, except Federal holidays. The telephone number is 202-366-9329. This policy is also available at http://www.homeport.uscg.mil under the Maritime Security tab; International Port Security Program (ISPS Code); Port Security Advisory link.

FOR FURTHER INFORMATION CONTACT: If you have questions on this notice, call Mr. Michael Brown, International Port Security Evaluation Division, United States Coast Guard, telephone 202—372-1081. If you have questions on viewing or submitting material to the docket, call Renee V. Wright, Program Manager, Docket Operations, telephone 202-366-9826 or (toll free) 1-800-647-5527.

SUPPLEMENTARY INFORMATION:

Background and Purpose

Section 70110 of title 46, United States Code, enacted as part of section 102(a) of the Maritime Transportation Security Act of 2002 (Pub. L. 107-295, Nov. 25, 2002) authorizes the Secretary of Homeland Security to impose conditions of entry on vessels requesting entry into the United States arriving from ports that are not maintaining effective anti-terrorism measures. It also requires public notice of the ineffective anti-terrorism measures. The Secretary has delegated to the Coast Guard authority to carry out the provisions of this section. See Department of Homeland Security Delegation No. 0170.1, sec. 97. Previous notices have imposed or removed conditions of entry on vessels arriving from certain countries, and those conditions of entry and the countries they pertain to remain in effect unless modified by this notice.

The Coast Guard has determined that ports in the Union of the Comoros and the Republic of Cote d'Ivoire are not maintaining effective anti-terrorism measures. To make these determinations, the Coast Guard International Port Security (IPS) Program conducted an initial visit to the Union of the Comoros in November 2009, and conducted an initial visit to the Republic of Cote d'Ivoire in January 2010. In our investigations of both countries, significant deficiencies were found in the legal regime, designated authority oversight, access control, and cargo control. In September 2010, the Deputy Commandant for Operations made findings that effective anti-terrorism measures were not in place in the ports of Comoros and Cote d'Ivoire. Inclusive to these determinations is an assessment that the Union of the Comoros and the Republic of Cote d'Ivoire present significant risk of introducing instruments of terror into international maritime commerce. The Coast Guard notified the Department of State of these determinations pursuant to 46 U.S.C. 70110(c).

The United States notified the Union of the Comoros of this determination in October 2010 and the Republic of Cote d'Ivoire in November 2010, and identified steps necessary to improve the antiterrorism measures in place at their respective ports, as required by 46 U.S.C. 70109. Neither of these countries has offered a response to our communications on these matters. To date, the United States cannot confirm that the identified deficiencies have been corrected.

Accordingly, effective June 10, 2011, the Coast Guard will impose the following conditions of entry on vessels that visited ports in the Union of the Comoros and/or the Republic of Cote d'Ivoire during their last five port calls. Vessels must:

• Implement measures per the ship's security plan equivalent to Security Level 2 while in a port in the Union of the Comoros or the Republic of Cote d'Ivoire. As defined in the ISPS Code and incorporated herein, “Security Level 2” refers to the “level for which appropriate additional protective security measures shall be maintained for a period of time as a result of heightened risk of a security incident.”

• Ensure that each access point to the ship is guarded and that the guards have total visibility of the exterior (both landside and waterside) of the vessel while the vessel is in ports in the Union of the Comoros or the Republic of Cote d'Ivoire.

• Guards may be provided by the ship's crew; however, additional crewmembers should be placed on the ship if necessary to ensure that limits on maximum hours of work are not exceeded and/or minimum hours of rest are met, or provided by outside security forces approved by the ship's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”

• Attempt to execute a Declaration of Security while in a port in the Union of the Comoros or the Republic of Cote d'Ivoire;

• Log all security actions in the ship's log; and

• Report actions taken to the cognizant Coast Guard Captain of the Port prior to arrival into U.S. waters.

In addition, based on the findings of the Coast Guard boarding or examination, vessels may be required to ensure that each access point to the ship is guarded by armed, private security guards and that they have total visibility of the exterior (both landside and waterside) of the vessel while in U.S. ports. The number and position of the guards has to be acceptable to the cognizant Coast Guard Captain of the Port prior to the vessel's arrival.

With this notice, the current list of countries not maintaining effective anti-terrorism measures is as follows: Cambodia, Cameroon, Comoros, Republic of the Congo, Cote d'Ivoire, Cuba, Equatorial Guinea, Guinea-Bissau, Indonesia, Iran, Liberia, Madagascar, Sao Tome and Principe, Syria, Timor-Leste, and Venezuela. This current list is also available in the policy notice available on the Homeport system as described in the ADDRESSES section above.

This notice is issued under authority of 46 U.S.C. 70110(a)(3).

Dated: May 23, 2011.
Rear Admiral Brian M. Salerno,
USCG, Deputy Commandant for Operations.

[FR Doc. 2011-13174 Filed 5-26-11; 8:45 am]

BILLING CODE 9110-04-P